DEPARTMENT OF TRANSPORTATION

Federal Aviation Administration

Notice of Intent To Rule on Application 02-14-C-00-BDL To Impose and Use the Revenue From a Passenger Facility Charge (PFC) at Bradley International Airport, Windsor Locks, CT

AGENCY: Federal Aviation Administration (FAA), DOT.

ACTION: Notice of intent to rule on application.

SUMMARY: The FAA proposes to rule and invites public comment on the application to impose and use the revenue from a PFC at Bradley International Airport under the provisions of the 49 U.S.C. 40117 and part 158 of the Federal Aviation Regulations (14 CFR part 158).

DATES: Comments must be received on or before August 22, 2002.

ADDRESSES: Comments on this application may be mailed or delivered in triplicate to the FAA at the following address: Ms. Priscilla Scott, PFC Program Manager, Federal Aviation Administration, Airport Division, 12 New England Executive Park, Burlington, Massachusetts 01803.

In addition, one copy of any comments submitted to the FAA must be mailed or delivered to Kenneth Robert, A.A.E., Aviation Administrator of the Connecticut Department of Transportation, Bureau of Aviation and Ports at the following address: P.O. Box 317546, Newington, CT 06131-7546.

Air carriers and foreign air carriers may submit copies of written comments previously provided to the Connecticut Department of Transportation, Bureau of Aviation and Ports under § 158.23 of part 158.

FOR FURTHER INFORMATION CONTACT: Priscilla Scott, PFC Program Manager, Federal Aviation Administration, Airports Division, 12 New England Executive Park, Burlington, Massachusetts 01803, (781) 238-7614. The application may be reviewed in person at 16 New England Executive Park, Burlington, Massachusetts.

SUPPLEMENTARY INFORMATION: The FAA proposes to rule and invites public comment on the application to impose and use the revenue from a PFC at Bradley International Airport under the provisions of the 49 U.S.C. 40117 and part 158 of the Federal Aviation Regulations (14 CFR part 158).

On June 27, 2002, the FAA determined that the application to impose and use the revenue from a PFC submitted by Connecticut Department of Transportation, Bureau of Aviation and Ports was substantially complete within the requirements of § 158.25 of part 158. The FAA will approve or disapprove the application, in whole or in part, no later than September 20, 2002.

The following is a brief overview of the application.

Proposed charge effective date: March 1, 2015.

Proposed charge expiration date: May 1, 2015.

Level of the proposed PFC: $3.00.

Total estimated PFC revenue: $1,102,000.

Brief description of proposed project(s): Acquire Aircraft Rescue and Fire Fighting Truck.

Class or classes of air carriers which the public agency has requested not be required to collect PFCs: On-Demand Air Taxi Commercial Operators.

Any person may inspect the application in person at the FAA office listed above under FOR FURTHER INFORMATION CONTACT.

In addition, any person may, upon request, inspect the application, notice and other documents germane to the application in person at the Connecticut Department of Transportation Building, 2800 Berlin Turnpike, Newington, Connecticut.

Issued in Burlington, Massachusetts on July 10, 2002.
Vincent A. Scarano,
Manager, Airports Division.

[FR Doc. 02-18470 Filed 7-22-02; 8:45 am]

BILLING CODE 4910-13-M